DEPARTMENT OF HEALTH AND HUMAN SERVICES

[Document Identifier: OS-0990-0479]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before June 13, 2025.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Jamie Kim, The Office of Population Affairs (OPA), Office of the Assistant Secretary for Health at Jamie.Kim@hhs.gov or (240) 453-2817. When submitting comments or requesting information, please include the document identifier 0990-30D and the project title for reference: Family Planning Annual Report (FPAR).

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

The Office of Population Affairs (OPA), within the Office of the Assistant Secretary for Health, seeks approval for a reinstatement with changes for their encounter level data collection for the Family Planning Annual Report (FPAR). This was previously approved by OMB under OMB No. 0990-0479, (expiration February 28, 2025). Annual submission of the FPAR is required of all Title X Family Planning Services grantees for purposes of monitoring and reporting program performance.

Need and Proposed Use of the Information

OPA's Title X Family Planning Program is the only federal grant program dedicated solely to providing comprehensive family planning and related preventive health services. The FPAR is the only source of annual, uniform reporting by all Title X services grantees funded under Section 300 of the Public Health Service Act. The FPAR 2.0 system provides consistent, national-level data on the Title X Family Planning program and its users. OPA assembles and analyzes comparable and relevant program data to answer questions about the characteristics of the population served, the provision and use of services, and the impact of the program on certain family planning outcomes. FPAR 2.0 collects a standard set of data elements pertaining to users and encounters, such as user demographics, service delivery, and family planning intentions and methods. Encounter level data collected through FPAR 2.0 improves the quality of data reported to OPA and reduces reporting burden by grantees. Additionally, the more granular data collected with FPAR 2.0 contributes to a learning healthcare environment by greatly expanding the options for data analysis and reporting—for example, through interactive data dashboards and visualizations, customized tabulations and reports, and application of analytics and statistical analyses on the encounter-level data files.

Information from FPAR 2.0 is important to OPA for many reasons, and is used to:

(1) Monitor compliance with statutory requirements, regulations, and operational guidance.

(2) Comply with accountability and federal performance requirements for Title X family planning funds.

(3) Guide strategic and financial planning, to monitor performance, to respond to inquiries from policymakers and Congress about the program, and to estimate program impact.

Type of respondent: Annual reporting; respondents are all grantees that receive Title X funding from OPA.

Type of respondent | Number of respondents | Number responses per respondent | Average burden per response (in hours) | Total burden hours
Grantees | 88 | 1 | 72 | 6,336
Total | 88 | 1 | 72 | 6,336

Susan R. Little,
Department Information Collection Clearance Officer, Paperwork Reduction Act Program, Department of Health and Human Services.

[FR Doc. 2025-08415 Filed 5-13-25; 8:45 am]

BILLING CODE 4150-34-P